DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (OFAC) is publishing the names of six individuals and 11 entities whose property and interests in property have been blocked pursuant to the Foreign Narcotics Kingpin Designation Act (Kingpin Act) (21 U.S.C. 1901-1908, 8 U.S.C. 1182) and five vessels in which one individual and two entities have an interest.

DATES: OFAC's actions described in this notice are effective on October 1, 2015, as further specified below.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security, may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On October 1, 2015, the Acting Director of OFAC designated the following six individuals and 11 entities whose property and interests in property are blocked pursuant to section 805(b) of the Kingpin Act.

Individuals

1. MERHI, Merhi Ali Abou (a.k.a. ABOU MERHI, Merhi; a.k.a. MERHI, Merhi Abou); DOB 05 Jul 1964; POB Hilalie, Lebanon; citizen Lebanon; Passport RL0575682 (Lebanon) (individual) [SDNTK] (Linked To: ABOU MERHI GROUP; Linked To: ABOU-MERHI LINES SAL; Linked To: ABOU-MERHI CRUISES (AMC) SAL; Linked To: LE MALL-SAIDA; Linked To: QUEEN STATIONS; Linked To: ORIENT QUEEN HOMES; Linked To: ABOU MERHI COTONOU; Linked To: ABOU MERHI NIGERIA; Linked To: ABOU MERHI HAMBURG; Linked To: LEBANON CENTER; Linked To: ABOU MERHI CHARITY INSTITUTION). Designated for materially assisting in, or providing financial or technological support for or to, or providing goods or services in support of, the international narcotics trafficking activities of the JOUMAA Money Laundering Organization/Drug Trafficking Organization and/or Hassan AYASH, and/or being owned, controlled, or directed by, or acting for or on behalf of, the JOUMAA Money Laundering Organization/Drug Trafficking Organization and/or Hassan AYASH.

2. EL BEZRI, Ahmad (a.k.a. EL BIZRI, Ahmad); DOB 09 Feb 1989; POB Saida, Lebanon; citizen Lebanon; Passport RL2452947 (Lebanon) (individual) [SDNTK] (Linked To: ABOU MERHI COTONOU; Linked To: ABOU MERHI NIGERIA). Designated for acting for or on behalf of Merhi Ali Abou MERHI.

3. MERHI, Atef Merhi Abou (a.k.a. ABOU-MERHI, Atef Merhi; a.k.a. MERHI, Atef Abou; a.k.a. MERHI, Atif Merhi Abou); DOB 06 Aug 1989; POB Saida, Lebanon; citizen Germany; Passport C1TRT3WNJ (Germany) (individual) [SDNTK] (Linked To: ABOU-MERHI LINES SAL; Linked To: ABOU MERHI CHARITY INSTITUTION; Linked To: ORIENT QUEEN HOMES). Designated for acting for or on behalf of Merhi Ali Abou MERHI.

4. MERHI, Hana Merhi Abou (a.k.a. MERHI, Hana Abou); DOB 31 Mar 1987; POB Germany; citizen Germany; Passport 332501999 (Germany) (individual) [SDNTK] (Linked To: ABOU-MERHI CRUISES (AMC) SAL; Linked To: ABOU-MERHI LINES SAL; Linked To: ABOU MERHI CHARITY INSTITUTION; Linked To: ORIENT QUEEN HOMES). Designated for acting for or on behalf of Merhi Ali Abou MERHI.

5. NASR, Wajdi Youssef; DOB 25 Sep 1974; POB Lebanon; citizen Lebanon; Passport 2243913 (Lebanon) (individual) [SDNTK] (Linked To: ABOU MERHI HAMBURG). Designated for acting for or on behalf of Merhi Ali Abou MERHI.

6. NASREDDINE, Houeda Ahmad (a.k.a. ABOU MERHI, Houeida; a.k.a. ABOU MERHI, Huweid; a.k.a. ABOU MERHI, Huweida; a.k.a. NASREDDINE, Houeida Ahmad); DOB 14 Aug 1965; POB Kfarhatta, Lebanon; citizen Lebanon; Passport RL0022792 (Lebanon) (individual) [SDNTK] (Linked To: ABOU-MERHI CRUISES (AMC) SAL; Linked To: ABOU-MERHI LINES SAL; Linked To: ABOU MERHI CHARITY INSTITUTION; Linked To: ORIENT QUEEN HOMES). Designated for acting for or on behalf of Merhi Ali Abou MERHI.

Entities

1. ABOU MERHI GROUP, Weygand Street, Atrium Building, Central District, Beirut, Lebanon [SDNTK] (Linked To: MERHI, Merhi Ali Abou). Designated for being owned, controlled, or directed by, or acting for or on behalf of, Merhi Ali Abou MERHI.

2. ABOU MERHI CHARITY INSTITUTION, Merhi Abou Merhi Street, Hilaliye, Saida, Lebanon; Abou Merhi Street, Hilaliyah Area, Saida 175016, Lebanon [SDNTK] (Linked To: MERHI, Merhi Ali Abou; Linked To: ABOU MERHI GROUP). Designated for being owned, controlled, or directed by, or acting for or on behalf of, Merhi Ali Abou MERHI.

3. ABOU MERHI COTONOU, Commune De Semepkodji Quartier Djeffa 01B7885, Cotonou, Benin [SDNTK] (Linked To: MERHI, Merhi Ali Abou; Linked To: ABOU MERHI GROUP). Designated for being owned, controlled, or directed by, or acting for or on behalf of, Merhi Ali Abou MERHI and/or ABOU MERHI GROUP.

4. ABOU MERHI HAMBURG (a.k.a. ABOU MERHI LINIENAGENTUR GMBH), Borstelmannsweg 145 D, Hamburg 20537, Germany; Hermann-Blohm-Strasse 3, Hamburg 20457, Germany [SDNTK] (Linked To: MERHI, Merhi Ali Abou; Linked To: ABOU MERHI GROUP). Designated for being owned, controlled, or directed by, or acting for or on behalf of, Merhi Ali Abou MERHI, ABOU MERHI GROUP, and/or Atef Merhi Abou MERHI.

5. ABOU MERHI NIGERIA (a.k.a. ABOU MERHI NIGERIA LIMITED), Grimaldi Port Complex Tin Can Island Port, Lagos, Nigeria [SDNTK] (Linked To: MERHI, Merhi Ali Abou; Linked To: ABOU MERHI GROUP). Designated for being owned, controlled, or directed by, or acting for or on behalf of, Merhi Ali Abou MERHI and/or ABOU MERHI GROUP.

6. ABOU-MERHI CRUISES SAL, The Atrium Building, Property Number 1455/26, Weygand Street, Beirut Central District Area, Nejmeh Sector, Beirut, Lebanon [SDNTK] (Linked To: MERHI, Merhi Ali Abou; Linked To: ABOU MERHI GROUP). Designated for being owned, controlled, or directed by, or acting for or on behalf of, Merhi Ali Abou MERHI and/or ABOU MERHI GROUP.

7. ABOU-MERHI LINES SAL (a.k.a. ABOU MERHI LINES; a.k.a. ABOU MERHI LINES SAL; a.k.a. ABOU MERHI LINES SAL OFF-SHORE), Atrium Building, Mosquee Al-Omari Street, Nejmeh Area, Marfaa Sector, Beirut, Lebanon; Atrium Building, Weygand Street, Central District, Nejmeh Sector, Beirut, Lebanon [SDNTK] (Linked To: MERHI, Merhi Ali Abou; Linked To: ABOU MERHI GROUP). Designated for being owned, controlled, or directed by, or acting for or on behalf of, Merhi Ali Abou MERHI and/or ABOU MERHI GROUP.

8. LE MALL-SAIDA (a.k.a. LE MALL SAIDA), Saida, Al Janub, Lebanon [SDNTK] (Linked To: MERHI, Merhi Ali Abou; Linked To: ABOU MERHI GROUP). Designated for being owned, controlled, or directed by, or acting for or on behalf of, Merhi Ali Abou MERHI and/or ABOU MERHI GROUP.

9. LEBANON CENTER, 176 Wasfi Tall Street, The Gardens, Amman, Jordan [SDNTK] (Linked To: MERHI, Merhi Ali Abou; Linked To: ABOU MERHI GROUP). Designated for being owned, controlled, or directed by, or acting for or on behalf of, Merhi Ali Abou MERHI and/or ABOU MERHI GROUP. Designated for being owned, controlled, or directed by, or acting for or on behalf of, Merhi Ali Abou MERHI and/or ABOU MERHI GROUP.

10. ORIENT QUEEN HOMES (a.k.a. ABOU MERHI HOSPITALITY SAL), John Kennedy Street 56526, Beirut, Lebanon [SDNTK] (Linked To: MERHI, Merhi Ali Abou; Linked To: ABOU MERHI GROUP). Designated for being owned, controlled, or directed by, or acting for or on behalf of, Merhi Ali Abou MERHI and/or ABOU MERHI GROUP.

11. QUEEN STATIONS, Merhi Abou-Merhi Street, Saida, Lebanon [SDNTK] (Linked To: ABOU MERHI GROUP). Designated for being owned, controlled, or directed by, or acting for or on behalf of, Merhi Ali Abou MERHI and/or ABOU MERHI GROUP.

In addition, on October 1, 2015, the Acting Director of OFAC identified the following five vessels as property in which Merhi Ali Abou MERHI, ABOU MERHI GROUP, and ABOU MERHI LINES SAL, an individual and two entities whose property and interest in property are blocked pursuant to the Kingpin Act, have an interest.

Vessels

1. ORIENT QUEEN II (3FDJ9) Panama flag; Vessel Registration Identification IMO 8701193; MMSI 373703000 (vessel) [SDNTK] (Linked To: MERHI, Merhi Ali Abou; Linked To: ABOU-MERHI LINES SAL). Designated for being owned or controlled by Merhi Ali Abou MERHI, ABOU MERHI GROUP, and/or ABOU MERHI LINES SAL.

2. CITY OF ANTWERP (3FRY8) Panama flag; Vessel Registration Identification IMO 8709133; MMSI 356459000 (vessel) [SDNTK] (Linked To: MERHI, Merhi Ali Abou; Linked To: ABOU-MERHI LINES SAL). Designated for being owned or controlled by Merhi Ali Abou MERHI, ABOU MERHI GROUP, and/or ABOU MERHI LINES SAL.

3. CITY OF LUTECE (9HRJ6) Malta flag; Vessel Registration Identification IMO 8017970; MMSI 248781000 (vessel) [SDNTK] (Linked To: MERHI, Merhi Ali Abou; Linked To: ABOU-MERHI LINES SAL). Designated for being owned or controlled by Merhi Ali Abou MERHI, ABOU MERHI GROUP, and/or ABOU MERHI LINES SAL.

4. CITY OF MISURATA (3EMY5) Panama flag; Vessel Registration Identification IMO 7920857; MMSI 354134000 (vessel) [SDNTK] (Linked To: MERHI, Merhi Ali Abou; Linked To: ABOU-MERHI LINES SAL). Designated for being owned or controlled by Merhi Ali Abou MERHI, ABOU MERHI GROUP, and/or ABOU MERHI LINES SAL.

5. CITY OF TOKYO (D5GK6) Liberia flag; Vessel Registration Identification IMO 8709145; MMSI 636016488 (vessel) [SDNTK] (Linked To: MERHI, Merhi Ali Abou; Linked To: ABOU-MERHI LINES SAL). Designated for being owned or controlled by Merhi Ali Abou MERHI, ABOU MERHI GROUP, and/or ABOU MERHI LINES SAL.

Dated: October 1, 2015.
John E. Smith,
Acting Director, Office of Foreign Assets Control.

[FR Doc. 2015-25365 Filed 10-5-15; 8:45 am]

BILLING CODE 4810-AL-P